DEPARTMENT OF TRANSPORTATION

Federal Aviation Administration

Aging Transport Systems Rulemaking Advisory Committee Meeting

AGENCY: Federal Aviation Administration (FAA), DOT.

ACTION: Notice of public meeting.

SUMMARY: This notice announces a public meeting of the FAA's Aging Transport Systems Rulemaking Advisory Committee (ATSRAC).

DATES: The ATSRAC will meet October 12, 2005 from 7 a.m. to 2 p.m. PDT.

ADDRESSES: The FAA will conduct the meeting by teleconference and by Webex. The instructions for both are indicated below under the heading “Meeting Instructions.”

FOR FURTHER INFORMATION CONTACT: Shirley Stroman, Office of Rulemaking, ARM-208, FAA, 800 Independence Avenue, SW., Washington, DC 20591; telephone (202) 267-7470; fax (202) 267-5075; or e-mail shirley.stroman@faa.gov.

SUPPLEMENTARY INFORMATION: This notice announces a meeting of the Aging Transport Systems Rulemaking Advisory Committee. The meeting topics are listed under the “Meeting Agenda” heading of this notice. The meeting is open to the public; however, participation will be limited to the number of persons the meeting arrangements can accommodate.

The public may present written statements to the Committee by providing 20 copies to the Committee's Executive Director. Public statements at the meeting will be considered if time allows. You may contact the individual under the FOR FURTHER INFORMATION CONTACT heading of this notice for additional instructions if you want to file a written statement.

Meeting Agenda

The agenda topics will include—

• Harmonization Working Group 12's report;

• FAA response to ATSRAC open recommendations;

• Status of Enhanced Airworthiness Program for Airplane Systems proposed rulemaking and related Advisory Circulars; and

• Regulatory harmonization.

Meeting Instructions

Teleconference: The teleconference number for callers within the United States is 1.866.442.8714. For international callers the number is 281.540.4931. Once you are connected, you should follow the instructions at the prompts. The passcode to connect to the teleconference is 9177755#.

Webex: You may view and exchange information using a Webex connection. It is important for you to set-up your Webex access at least one hour before the meeting to avoid delays. To join the meeting using Webex, sign onto the Internet and enter the Web address given below. https://boeing.webex.com.

After signing on, click the “Assistance—Support” menu and enter meeting number 897 181 779. After completing the information requests, enter the following password: agingairplane.

If you have questions about the meeting instructions, you may contact the individual listed under the FOR FURTHER INFORMATION CONTACT heading of this notice.

Please keep in mind that you will be responsible for any long distance charges you may incur to connect to the meeting from outside the calling area.

Issued in Washington, DC, on September 16, 2005.
Tony Fazio,
Director, Office of Rulemaking.

[FR Doc. 05-18938 Filed 9-21-05; 8:45 am]

BILLING CODE 4910-13-P